DEPARTMENT OF THE INTERIOR

Fish and Wildlife Service

[FWS-R8-ES-2022-N022; FXES11130800000-223-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before May 31, 2022.

ADDRESSES: Document availability and comment submission: Submit requests for copies of the applications and related documents and submit any comments by one of the following methods. All requests and comments should specify the applicant name(s) and application number(s) (e.g., XXXXXX or PER0001234).

• Email: permitsR8ES@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 916-414-6561, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
82155B | Johanna C. Page, Pasadena, California | • Conservancy fairy shrimp (Branchinecta conservatio) • Longhorn fairy shrimp (Branchinecta longiantenna) | CA | Capture, handle, release, and collect vouchers | Renew.
|  | • San Diego fairy shrimp (Branchinecta sandiegonensis)
|  | • Riverside fairy shrimp (Streptocephalus woottoni)
|  | • Vernal pool tadpole shrimp (Lepidurus packardi)
PER0005173 | Thomas P. Ryan, Monrovia, California | • California least tern (Sterna antillarum browni) • California Ridgway's rail (Rallus [longirostris] obsoletus obsoletus) • Light-footed Ridgway's rail (Rallus obsoletus levipes) • Southern willow flycatcher (Empidonax traillii extimus) • Least Bell's vireo (Vireo bellii pusillus) | CA | Play taped vocalizations, locate and monitor nests, erect and use cameras, install and remove fence pens, float eggs, capture, mark-recapture, handle, measure, band, color-band, release, collect nonviable eggs for predator control program, collect breast feathers, remove brown-headed cowbird (Molothrus ater) eggs and chicks from parasitized nests | Renew.
065741 | John C. Lovio, San Diego, California | • Southwestern willow flycatcher (Empidonax traillii extimus) • Least Bell's vireo (Vireo bellii pusillus) • Quino checkerspot butterfly (Euphydryas editha quino) • Conservancy fairy shrimp (Branchinecta conservatio) | CA | Pursue, capture, handle, release, and collect vouchers, play taped vocalizations, locate and monitor nests, and remove brown-headed cowbird (Molothrus ater) eggs and chicks from parasitized nests | Renew.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
797233 | Entomological Consulting Services, Ltd., Richard Arnold, Pleasant Hill, California | • Ohlone tiger beetle (Cicindela ohlone) • Palos Verdes blue butterfly (Glaucosyche lygdamus palosverdesensis) • El Segundo blue butterfly (Euphilotes battoides allyni) | CA | Pursue, capture, handle, release, mark burrow, translocate, and conduct ecological studies and habitat enhancement | Renew.
|  | • Smith's blue butterfly (Euphilotes enoptes smithi)
|  | • lotis blue butterfly (Lycaeides argyrognomon lotis)
|  | • Mount Hermon June beetle (Polyphulla barbata)
|  | • Behren's silverspot butterfly (Speyeria zerene behrensii)
|  | • Zayante band-wind grasshopper (Trimerotropis infantilis)
84210B | Amy Storck, Fair Oaks, California | • Conservancy fairy shrimp (Branchinecta conservatio) • Longhorn fairy shrimp (Branchinecta longiantenna) | CA | Capture, handle, release, and collect vouchers | Renew.
|  | • San Diego fairy shrimp (Branchinecta sandiegonensis)
|  | • Riverside fairy shrimp (Streptocephalus woottoni)
|  | • Vernal pool tadpole shrimp (Lepidurus packardi)
092162 | Andrew Borcher, Lakeside, California | • Quino checkerspot butterfly (Euphydryas editha quino) | CA | Pursue | Renew.
796271 | Shana Dodd, San Diego, California | • Pacific pocket mouse (Perognathus longimembris pacificus) • San Bernardino kangaroo rat (Dipodomys merriami parvus) | CA | Capture, handle, mark, collect tissue or hair, and release | Renew.
063429 | Department of Water Resources, Karin Dulik, Fresno, California | • Buena Vista shrew (Sorex ornatus relictus) • Giant kangaroo rat (Dipodomys ingens) • Fresno kangaroo rat (Dipodomys nitratoides exilis) | CA | Capture, handle, and release | Renew.
|  | • Tipton's kangaroo rat (Dipodomys nitratoides nitratoides)
018909 | Kelly Rios, Brea, California | • Quino checkerspot butterfly (Euphydryas editha quino) | CA | Pursue, capture, handle, and release | Renew.
|  | • El Segundo blue butterfly (Euphilotes battoides allyni)
|  | • San Bernardino kangaroo rat (Dipodomys merriami parvus)
036550 | Nina L. Kidd, Kidd Biological, Inc., Anacortes, Washington | • Quino checkerspot butterfly (Euphydryas editha quino) | CA | Pursue | Renew.
02351A | Timothy J. Searl | • Southwestern willow flycatcher (Empidonax traillii extimus) | CA | Play taped vocalizations, locate and monitor nests, and remove brown-headed cowbird (Molothrus ater) eggs and chicks from parasitized nests | Renew.
56489B | Jonathan T. Koehler, Corte Madera, California | • California freshwater shrimp (Syncaris pacifica) | CA | Harass by survey, capture, handle, and release | Renew.
018180 | Point Reyes National Seashore, Point Reyes Station, California | • Sonoma alopecurus (Alopecurus aequalis var. sonomensis) • Tidestrom's lupine (Lupinus tidestromii) | CA | Collect seeds, whole plants, and plant parts | Renew.
|  | • Beach layia (Layia carnosa)
|  | • Sonoma spineflower (Chorizanthe valida)
|  | • Robust spineflower (Chorizanthe robusta var. robusta)
PER0025577 | Michael S. Henry, Folsom, California | • California tiger salamander (Santa Barbara County Distinct Population Segment (DPS), and Sonoma County DPS) (Ambystoma californiense) | CA | Capture, handle, and release | New.
36221C | Jason R. Peters, Sacramento, California | • California tiger salamander (Santa Barbara County Distinct Population Segment (DPS), and Sonoma County DPS) (Ambystoma californiense) | CA | Capture, handle, and release | Renew and Amend.
005535 | Gilbert Goodlett, San Diego, California | • Delhi Sands flower-loving fly (Rhaphiomidas terminates abdominalis) • Quino checkerspot butterfly (Euphydryas editha quino) | CA | Pursue | Renew.
139634 | Thomas Liddicoat, Vista, California | • Conservancy fairy shrimp (Branchinecta conservatio) • Longhorn fairy shrimp (Branchinecta longiantenna) | CA | Capture, handle, collect vouchers, and release | Renew.
|  | • San Diego fairy shrimp (Branchinecta sandiegonensis) • Riverside fairy shrimp (Streptocephalus woottoni)
|  | • Vernal pool tadpole shrimp (Lepidurus packardi)
72549C | Marty A Lewis, Carson, California | • Conservancy fairy shrimp (Branchinecta conservatio) • Longhorn fairy shrimp (Branchinecta longiantenna) | CA | Capture, handle, collect vouchers, and release | Renew.
|  | • San Diego fairy shrimp (Branchinecta sandiegonensis)
|  | • Riverside fairy shrimp (Streptocephalus woottoni)
|  | • Vernal pool tadpole shrimp (Lepidurus packardi)
141359 | Stephen Stringer, El Dorado Hills, California | • Conservancy fairy shrimp (Branchinecta conservatio) • Longhorn fairy shrimp (Branchinecta longiantenna) | CA | Capture, handle, collect vouchers, and release | Renew.
|  | • San Diego fairy shrimp (Branchinecta sandiegonensis)
|  | • Riverside fairy shrimp (Streptocephalus woottoni)
|  | • Vernal pool tadpole shrimp (Lepidurus packardi)
77125D | Zachary A. Cava, Sacramento, California | • California tiger salamander (Santa Barbara County Distinct Population Segment (DPS), and Sonoma County DPS) (Ambystoma californiense) | CA | Capture, handle, collect vouchers, and release | Renew.
|  | • Conservancy fairy shrimp (Branchinecta conservatio)
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
PER0034685 | Mohave National Wildlife Preserve, Barstow, California | • Mojave tui chub (Siphateles bicolor mohavensis) | CA | Capture by hand, seine, net or trap, handle, measure, hold temporarily, collect non-lethal fin clip, and release, collect voucher specimen | New.
031850 | Gretchen Cummings, Ramona, California | • Quino checkerspot butterfly (Euphydryas editha quino) | CA | Pursue | Renew.
PER0040489 | Tara Johnson-Kelly, Salinas, California | • California tiger salamander (Santa Barbara County Distinct Population Segment (DPS), and Sonoma County DPS) (Ambystoma californiense) | CA | Capture, handle, and release | New.
PER0034449 | Western Foundation of Vertebrate Zoology, Linnea Hall, Camarillo, California | • Southwestern willow flycatcher (Empidonax traillii extimus) • Least Bell's vireo (Vireo bellii pusillus) | CA | Play taped vocalizations, locate and monitor nests, and remove brown-headed cowbird (Molothrus ater) eggs and chicks from parasitized nests | Renew and Amend.
60151B | Lisa A. Allen, Deer Park, Washington | • Least Bell's vireo (Vireo bellii pusillus) | CA | Locate and monitor nests, and remove brown-headed cowbird (Molothrus ater) eggs and chicks from parasitized nests | Renew.
92799B | Karl Fairchild, Fullerton, California | • Southwestern willow flycatcher (Empidonax traillii extimus) | CA | Play taped vocalizations | Renew.
PER002326 | Ryan Quilley, San Diego, California | • Quino checkerspot butterfly (Euphydryas editha quino) | CA | Pursue | Amend.
63359B | Jennifer Radtkey, Oakland, California | • Quino checkerspot butterfly (Euphydryas editha quino) • Conservancy fairy shrimp (Branchinecta conservatio) | CA | Pursue, capture, handle, collect vouchers, and release | Renew.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
59592B | Angela M. Johnson, Escondido, California | • Southwestern willow flycatcher (Empidonax traillii extimus) | CA | Play taped vocalizations | Renew.
PER0040490 | Anna L. Erway, Alameda, California | • California tiger salamander (Santa Barbara County Distinct Population Segment (DPS), and Sonoma County DPS) (Ambystoma californiense) | CA | Capture, handle, and release | New.
60151B | Sarah Godfrey, Aliso Viejo, California | • Pacific pocket mouse (Perognathus longimembris pacificus) | CA | Capture, handle, mark, track, collect genetic samples, and release | New.
86906B | Yosemite National Park, Robert Grasso, El Portal, California | • Mountain yellow-legged frog (Rana muscosa) • Sierra Nevada yellow-legged frog (Rana sierrae) | CA | Capture, handle, and release | Renew.
PER0038601 | Monica M. Jacinto, Oxnard, California | • California least tern (Sterna antillarum browni) | CA | Harass by survey, locate and monitor nests | New.
052159 | Jeffrey L. Ahrens, Irvine, California | • Southwestern willow flycatcher (Empidonax traillii extimus) | CA | Play taped vocalizations | Renew.
797665 | RECON Environmental, Inc., Wendy Loeffler, San Diego, California | • Quino checkerspot butterfly (Euphydryas editha quino) • Conservancy fairy shrimp (Branchinecta conservatio) • Longhorn fairy shrimp (Branchinecta longiantenna) • San Diego fairy shrimp (Branchinecta sandiegonensis) | CA | Pursue, play taped vocalizations, locate and monitor nests, capture, handle, collect vouchers and genetic samples, and release; Collect seeds, whole plants, and plant parts on federal lands | Renew.
|  | • Riverside fairy shrimp (Streptocephalus woottoni)
|  | • Vernal pool tadpole shrimp (Lepidurus packardi)
|  | • California Orcutt grass (Orcuttia californica)
|  | • San Diego button-celery (Eryngium aristulatum var. parishii)
|  | • San Diego Mesa-mint (Pogogyne abramsii)
|  | • Otay Mesa-mint (Pogogyne nudiuscula)
|  | • Munz's onion (Allium munzii)
|  | • San Diego ambrosia (Ambrosia pumila)
|  | • Del Mar manzanita (Arctostaphylos glandulosa crassifolia)
|  | • Willowy monardella (Monardella viminea)
|  | • Southwestern willow flycatcher (Empidonax traillii extimus)
|  | • Least Bell's vireo (Vireo bellii pusillus)
|  | • Pacific pocket mouse (Perognathus longimembris pacificus)
|  | • San Bernardino kangaroo rat (Dipodomys merriami parvus)
84165D | Andrew Hatch, South Lake Tahoe, California | • California tiger salamander (Santa Barbara County Distinct Population Segment (DPS) and Sonoma County DPS) (Ambystoma californiense) | CA | Harass by survey, capture, handle, swab and release | Renew.
|  | • Mountain yellow-legged frog (Rana muscosa)
|  | • Sierra Nevada yellow-legged frog (Rana sierrae)
|  | • Unarmored threespine stickleback (Gasterosteus aculeatus williamsoni)
082546 | Elkhorn Slough National Estuarine Research Reserve, Kerstin Wasson, Watsonville, California | • Santa Cruz long-toed salamander (Ambystoma macrodactylum croceum) | CA | Capture, handle, and release | Renew.
PER0001234 | Christopher Searcy, Coral Gables, Florida | • Santa Cruz long-toed salamander (Ambystoma macrodactylum croceum) | CA | Capture by hand or trap, handle, measure, collect tissue samples, rescue, and release | New.
837308 | John Konency, Valley Center, California | • Arroyo (=arroyo southwestern) toad (Anaxyrus californicus) • California least tern (Sterna antillarum browni) • Southwestern willow flycatcher (Empidonax traillii extimus) • California Ridgway's rail (Rallus [longirostris] obsoletus obsoletus) • Light-footed Ridgway's rail (Rallus [longirostris] obsoletus levipes) | CA, AZ | Harass by survey, capture, handle, release, monitor nests, remove brown-headed cowbird (Molothrus ater) eggs and chicks from parasitized nests, erect nest exclosures, collect infertile eggs, swab, mark, and attach radio transmitters | Amend.
|  | • Yuma Ridgway's rail (Rallus obsoletus yumanensis)
157216 | U.S. Geological Survey, Western Ecological Research Center—Dixon Field Station, Brian J. Halstead, Dixon, California | • San Francisco garter snake (Thamnophis sirtalis tetrataenia) • Dixie Valley toad (Anaxyrus williamsi) | CA, NV | Harass by survey, capture, measure, handle, swab, mark, and release, collect tissue samples (toe-clip), conduct mark-recapture studies, conduct ecological research | Renew and Amend.
50899B | Barbara Kus, San Diego, California | • Southwestern willow flycatcher (Empidonax traillii extimus) • Least Bell's vireo (Vireo bellii pusillus) | CA, NV, NM, AZ | Play taped vocalizations, monitor nests, capture, collect genetic samples, handle, and band and remove brown-headed cowbird (Molothrus ater) eggs and chicks from parasitized nests | Renew.
807078 | Point Reyes Bird Observatory, Point Reyes Station, California | • Southwestern willow flycatcher (Empidonax traillii extimus) • Least Bell's vireo (Vireo bellii pusillus) • California least tern (Sterna antillarum browni) • California Ridgway's rail (Rallus [longirostris] obsoletus obsoletus) | CA | Harass by survey, play taped vocalizations, monitor nests, remove unviable eggs, capture, collect genetic samples, handle, and band and remove brown-headed cowbird (Molothrus ater) eggs and chicks from parasitized nests | Renew and Amend.
85074C | U.S. Geological Survey, Western Ecological Research Center—Dixon Field Station, Cory Overton | • California Ridgway's rail (Rallus [longirostris] obsoletus obsoletus) | CA | Play taped vocalizations, capture, handle, band, radio-tag, nest monitor, collect blood and feathers, candle/float eggs, salvage nonviable egg and carcass, transport, translocate, and release | Renew and Amend.
13115C | Lisa Henderson, San Ramon, California | • Salt marsh harvest mouse (Reithrodontomys raviventris) | CA | Capture, handle, tag, collect samples (hair) and release | Renew and Amend.
89994B | Daria Snider, Madrone Ecological Consulting, LLC, Sacramento, California | • Conservancy fairy shrimp (Branchinecta conservatio) • Longhorn fairy shrimp (Branchinecta longiantenna) | CA | Capture, handle, collect voucher specimens, and release | Renew.
|  | • San Diego fairy shrimp (Branchinecta sandiegonensis)
|  | • Riverside fairy shrimp (Streptocephalus woottoni)
|  | • Vernal pool tadpole shrimp (Lepidurus packardi)
72119B | Seth Dallman, Half Moon Bay, California | • Conservancy fairy shrimp (Branchinecta conservatio) • Longhorn fairy shrimp (Branchinecta longiantenna) | CA | Capture, handle, collect voucher specimens, and release | Renew.
|  | • San Diego fairy shrimp (Branchinecta sandiegonensis)
|  | • Riverside fairy shrimp (Streptocephalus woottoni)
|  | • Vernal pool tadpole shrimp (Lepidurus packardi)
43597A | Dana McLaughlin, Chula Vista, California | • Pacific pocket mouse (Perognathus longimembris pacificus) • San Bernardino kangaroo rat (Dipodomys merriami parvus) | CA | Harass by survey, capture, handle, utilize track tubes, and release | Renew.
036499 | National Park Service—Golden Gate National Recreation Area, Darren Fong, San Francisco, California | • Freshwater shrimp (Syncaris pacifica) • San Francisco garter snake (Thamnophis sirtalis tetrataenia) • Mission blue butterfly (Icaricia icarioides missionenesis) • San Bruno butterfly (Callophrys mossii bayensis) • Tidewater goby (Eucyclobius newberryi) |  | Harass by survey, capture, handle, collect voucher specimens, collect tissue for isotopic analysis, and release; Collect seeds, whole plants, and plant parts on Federal lands | Renew and Amend.
|  | • California seablite (Suaeda californica)
|  | • Franciscan manzanita (Arctostaphylos franciscana)
|  | • Presidio manzanita (Arctostaphylos hookeri var. ravenii)
|  | • Hickman's potentilla (Potentilla hickmanii)
|  | • Presidio clarkia (Clarkia franciscana)
|  | • Marsh sandwort (Arenaria paludicola)
|  | • San Francisco lessingia (Lessingia germanorum)
839078 | Spencer Langdon, San Pedro, California | • California least tern (Sterna antillarum browni) | CA | Harass by survey, locate and monitor nests | Renew.
PER0038601 | Monica M. Jacinto, Oxnard, California | • California least tern (Sterna antillarum browni) | CA | Harass by survey, locate and monitor nests | New.
89991B | Sarah VonderOhe, Sacramento, California | • Conservancy fairy shrimp (Branchinecta conservatio) • Longhorn fairy shrimp (Branchinecta longiantenna) | CA | Capture, handle, collect voucher specimens, and release | Renew.
|  | • San Diego fairy shrimp (Branchinecta sandiegonensis)
|  | • Riverside fairy shrimp (Streptocephalus woottoni)
|  | • Vernal pool tadpole shrimp (Lepidurus packardi)
85618B | Christopher Bronny, Folsom, California | • Conservancy fairy shrimp (Branchinecta conservatio) • Longhorn fairy shrimp (Branchinecta longiantenna) | CA | Capture, handle, collect voucher specimens, and release | Renew.
|  | • San Diego fairy shrimp (Branchinecta sandiegonensis)
|  | • Riverside fairy shrimp (Streptocephalus woottoni)
|  | • Vernal pool tadpole shrimp (Lepidurus packardi)
785564 | Bumgardner Biological Consulting—Michael Bumgardner, Gold River, California | • California Ridgway's rail (Rallus [longirostris] obsoletus obsoletus) • California tiger salamander (Santa Barbara County Distinct Population Segment (DPS), and Sonoma County DPS) (Ambystoma californiense) | CA | Play taped vocalizations, locate and monitor nests, capture, handle, collect vouchers, and release | Renew.
|  | • Southwestern willow flycatcher (Empidonax traillii extimus)
48149A | Tammy Lim, Oakland, California | • San Francisco garter snake (Thamnophis sirtalis tetrataenia) • California tiger salamander (Santa Barbara County Distinct Population Segment (DPS) and Sonoma County DPS) (Ambystoma californiense) |  | Harass by survey, capture, handle, swab for disease, and release | Renew and Amend.
134334 | Lincoln Hulse, Mission Viejo, California | • San Bernardino kangaroo rat (Dipodomys merriami parvus) | CA | Capture, handle, and release | Renew.
036065 | Korey Klutz, Carlsbad, California | • Quino checkerspot butterfly (Euphydryas editha quino) | CA | Pursue | Renew.
092476 | Scott Quinnell, California Department of Transportation, San Bernardino, California | • Quino checkerspot butterfly (Euphydryas editha quino) | CA | Pursue | Renew.
88748B | Erika Walther, Oakland, California | • Salt marsh harvest mouse (Reithrodontomys raviventris) • California tiger salamander (Santa Barbara County Distinct Population Segment (DPS) and Sonoma County DPS) (Ambystoma californiense) | CA | Capture, handle, collect vouchers, and release | Renew.
|  | • Conservancy fairy shrimp (Branchinecta conservatio)
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
01769B | Jesse Reebs, Monk and Associates, Oakland, California | • San Francisco garter snake (Thamnophis sirtalis tetrataenia) • California Ridgway's rail (Rallus [longirostris] obsoletus obsoletus) | CA | Play taped vocalizations, capture, handle, and release | Renew.
071215 | Rebecca Doubledee, Oakland, California | • Sierra Nevada yellow-legged frog • California tiger salamander (Santa Barbara County Distinct Population Segment (DPS) and Sonoma County DPS) (Ambystoma californiense) | CA | Capture, handle, and release | Renew.
89964A | Debra Barringer, Ventura, California | • California least tern (Sterna antillarum browni) | CA | Harass by survey, locate and monitor nests | Renew and Amend.
786728 | Jules Evans, Avocet Research Associates, LLC, Point Reyes Station, California | • California Ridgway's rail (Rallus [longirostris] obsoletus obsoletus) | CA | Play taped vocalizations | Renew.
137006 | Thea Benson, Thousand Oaks, California | • Southwestern willow flycatcher (Empidonax traillii extimus) | CA | Play taped vocalizations, locate and monitor nests | Renew.
006112 | Gretchen Flohr, Grass Valley, California | • Salt marsh harvest mouse (Reithrodontomys raviventris) | CA | Capture, handle, collect vouchers, and release | Renew.
|  | • California tiger salamander (Santa Barbara County Distinct Population Segment (DPS), and Sonoma County DPS) (Ambystoma californiense)
|  | • Conservancy fairy shrimp (Branchinecta conservatio)
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
176209 | San Francisco International Airport, San Francisco, California | • San Francisco garter snake (Thamnophis sirtalis tetrataenia) | CA | Harass by survey, capture, handle, swab for disease, and release | Renew.
80703A | Seth Reimers, San Diego, California | • Quino checkerspot butterfly (Euphydryas editha quino) | CA | Pursue | Renew.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of be made available for public disclosure in their entirety.

Next Steps

If we decide to issue permits to any of the applicants listed in this notice, we will publish a notice in the Federal Register.

Authority

We publish this notice under section 10(c) of the Endangered Species Act of 1973, as amended (16 U.S.C. 1531 et seq.).

Peter Erickson,
Acting Regional Endangered Species Program Manager, Pacific Southwest Region, Sacramento, California.

[FR Doc. 2022-09169 Filed 4-28-22; 8:45 am]

BILLING CODE 4333-15-P